DEPARTMENT OF LABOR

Employment and Training Administration

Notice of Determinations Regarding Eligibility To Apply for Worker Adjustment Assistance

In accordance with Section 223 of the Trade Act of 1974, as amended, (19 U.S.C. 2273), the Department of Labor herein presents summaries of determinations regarding eligibility to apply for trade adjustment assistance for workers (TA-W) number and alternative trade adjustment assistance (ATAA) by (TA-W) number issued during the periods of March 2005.

In order for an affirmative determination to be made and a certification of eligibility to apply for directly-impacted (primary) worker adjustment assistance to be issued, each of the group eligibility requirements of Section 222(a) of the Act must be met.

I. Section (a)(2)(A) all of the following must be satisfied:

A. A significant number or proportion of the workers in such workers' firm, or an appropriate subdivision of the firm, have become totally or partially separated, or are threatened to become totally or partially separated;

B. The sales or production, or both, of such firm or subdivision have decreased absolutely; and

C. Increased imports of articles like or directly competitive with articles produced by such firm or subdivision have contributed importantly to such workers' separation or threat of separation and to the decline in sales or production of such firm or subdivision; or

II. Section (a)(2)(B) both of the following must be satisfied:

A. A significant number or proportion of the workers in such workers' firm, or an appropriate subdivision of the firm, have become totally or partially separated, or are threatened to become totally or partially separated;

B. There has been a shift in production by such workers' firm or subdivision to a foreign country of articles like or directly competitive with articles which are produced by such firm or subdivision; and

C. One of the following must be satisfied:

1. The country to which the workers' firm has shifted production of the articles is a party to a free trade agreement with the United States;

2. The country to which the workers' firm has shifted production of the articles to a beneficiary country under the Andean Trade Preference Act, African Growth and Opportunity Act, or the Caribbean Basin Economic Recovery Act; or

3. There has been or is likely to be an increase in imports of articles that are like or directly competitive with articles which are or were produced by such firm or subdivision.

Also, in order for an affirmative determination to be made and a certification of eligibility to apply for worker adjustment assistance as an adversely affected secondary group to be issued, each of the group eligibility requirements of Section 222(b) of the Act must be met.

(1) Significant number or proportion of the workers in the workers' firm or an appropriate subdivision of the firm have become totally or partially separated, or are threatened to become totally or partially separated;

(2) The workers' firm (or subdivision) is a supplier or downstream producer to a firm (or subdivision) that employed a group of workers who received a certification of eligibility to apply for trade adjustment assistance benefits and such supply or production is related to the article that was the basis for such certification; and

(3) Either—

(A) The workers' firm is a supplier and the component parts it supplied for the firm (or subdivision) described in paragraph (2) accounted for at least 20 percent of the production or sales of the workers' firm; or

(B) a loss or business by the workers' firm with the firm (or subdivision) described in paragraph (2) contributed importantly to the workers' separation or threat of separation.

Negative Determinations for Worker Adjustment Assistance

In the following cases, the investigation revealed that the criteria for eligibility have not been met for the reasons specified.

The investigation revealed that criteria (a)(2)(A)(I.C.) (increased imports) and (a)(2)(B)(II.B) (No shift in production to a foreign country) have not been met.

TA-W-56,360; Wrigley Manufacturing Co., a div. of The WM. Wrigley Jr. Company, Phoenix Plant, Phoenix, AZ

TA-W-56,481; Morton Metalcraft Co. of South Carolina, including on-site leased workers of Employment Staffing, Honea Path, SC

TA-W-56,407; Meadwestvaco Research, subsidiary of Meadwestvaco Corp., Laurel, MD

TA-W-56,180; Bristol-Myers Squibb Company, Technical Operations, East Syracuse, NY

TA-W-56,353; Lear Corp., Marshall, MI

TA-W-56,412; Tiro Industries, LLC, including leased workers from Excel Staffing, Fridley, MN

TA-W-56,451; Alloy Engineering and Casting Co., Counter Gravity Casting Div., Champaign, IL

TA-W-56,276; Trinity Marine Products, Inc., Marine Div., Burly, LA

TA-W-56,355 and A; Braham Steel Corp., Reinforcing Steel Div., Kirkland, WA, Structural Steel Div., Kirkland, WA

TA-W-56,477; Gardner Shoe Co., West Plains, MO

TA-W-56,484; Renee's Manufacturing, Inc., San Francisco, CA

TA-W-56,518; Standard Textile Thomaston, Inc., Thomaston, GA

TA-W-56,357 & A; Westpoint Stevens, Inc., Middletown Plant, including on-site Leased workers of PRO Resources, Middletown, IN and Anderson Warehouse, including on-site leased workers of PRO Resources, Anderson, IN

TA-W-56,388; Westpoint Stevens, Inc., Daleville Div. Office, Daleville, IN

TA-W-56,448; LM Services LLC, Cumberland, MD

TA-W-56,374; Napco Window Systems, Sarver, PA

TA-W-56,383; CFM, Home Products Div., Joplin, MO

TA-W-56,286; Duracell, a div. of The Gillette Co., Lexington, NC: “Workers engaged in the production of high power lithium film camera batteries are denied eligibility to apply for adjustment assistance.”

The workers firm does not produce an article as required for certification under Section 222 of the Trade Act of 1974.

TA-W-56,466; Information Resources, Inc., a div. of IRI Holdings, Inc., Chicago, IL

TA-W-56,403; Kulicke & Soffa Industries, Inc., Accounts Receivable Department, Willow Grove, PA

TA-W-56,574; Skillsoft, Nashua, NH

TA-W-56,457; Swenco, Inc., d/b/a Posi-Products, Poplar Bluff, MO

TA-W-56,160; Kennametal, Inc., MSSG Advertising, Latrobe, PA

TA-W-56,486; Lucent Technologies, Inc., Imerge Software Development and Testing Group, Phoenix, AZ

TA-W-56,454; GE Engine Services-Dallas LP, Dallas, TX

TA-W-56,463; Santa's Best, Lubbock Distribution Center, Lubbock, TX

TA-W-56,303; Alcatel USA Resources, VND Signaling Systems Products Div., Plano, TX

TA-W-56,400; Sprint Corp., United Telephone Company of North Carolina, Wake Forest Repair Service and Evaluation Center, Wake Forest, NC

TA-W-56,453; SBC Communications, formerly known as Southwestern Bell, Consumer Markets, Jonesboro, AR

The investigation revealed that criterion (a)(2)(A)(I.A) and (a)(2)(B)(II.A) (no employment decline) has not been met.

TA-W-56,541; Osram Sylvania, Inc., St. Marys, PA

TA-W-56,586; Lawson-Hemphill Sales, Inc., Spartanburg, SC

TA-W-56,531; Facility Management Engineering, Inc., St. George, UT

TA-W-56,428; General Chemical Industrial Products, Manistee, MI

TA-W-56,433A; Armstrong World Industries, Lancaster Floor Plant, Sheet Div., Lancaster, PA

The investigation revealed that criterion (a)(2)(A)(I.B) (Sales or production, or both, did not decline) and (a) (2)(B)(II.B) (has shifted production to a county not under the free trade agreement with U.S.) have not been met.

TA-W-56,335; Takata Seat Belts, Inc., San Antonio, TX

TA-W-56,452; Sanmina—SCI Corporation, San Jose, CA

TA-W-56,487; Fraser Papers, Park Falls, WI

TA-W-56,368; Invista S.A.R.L., a div. of Koch Industries, Victoria, TX

TA-W-56,558; Ben Mar Hosiery, Ft. Payne, AL

TA-W-56,536 & A, B; Butler Manufacturing Co., subsidiary of Bluescope Steel, Ltd, Buildings Div., Wall and Roof Panels Production, Galesburg, IL, Trim and Components Production, Galesburg, IL and Secondaries Production, Galesburg, IL

TA-W-56,603; ATK—Ordnance Systems, a Unit of Alliant Techsystems, Janesville, WI

The investigation revealed that criteria (3)(A) has not been met. The workers' firm (or subdivision) is not a supplier and the component parts it supplied to trade-affected companies did not account for at least 20 percent of the production or sales of the workers' firm.

TA-W-56,200; Multi-Plastics, including leased workers of M-Ploy Temporaries, Saegertown, PA

The investigation revealed that criteria (2) has not been met. The workers firm (or subdivision) is not a supplier or downstream producer to trade-affected companies.

TA-W-56,505; FB Johnston Graphics, Hillsborough, NC

The investigation revealed that criteria (a)(2)(A) (I.C) increased imports and (II.C) (has shifted production to a foreign country) have not been met.

TA-W-56,493; Keopplingers Bakery, Inc., Oak Park, MI

TA-W-56,439 & A, B; Dietrich Industries, Inc., Plant #14, Hammond, IN, Plant #18, Hammond, IN and Laporte, IN

TA-W-56,511; Quantegy, Inc., Opelika, AL

The investigation revealed that criteria (a)(2)(A) (I.B) (Sales or production, or both did not decline) and (II.C) (has shifted production to a foreign country) have not been met.

TA-W-56,354; Flambeau, inc., Baraboo Blow Molding Div., Baraboo, WI

The investigation revealed that criteria (a)(2)(A) (I.B) (Sales or production, or both did not decline) and (II.A) (No employment decline) has shifted production to a foreign country) have not been met.

TA-W-56,432; Freescale Semiconductor, Inc., Motorola Business Group Services, formerly Motorola SPS, Inc., Tempe, AZ

Affirmative Determinations for Worker Adjustment Assistance

The following certifications have been issued; the date following the company name and location of each determination references the impact date for all workers of such determination.

The following certifications have been issued. The requirements of (a) (2) (A) (increased imports) of Section 222 have been met.

TA-W-56,309; Kane Magnetics Acquisitions LLC, Kane, PA: February 14, 2005.

TA-W-54,952; VF Intimates, LP, Johnstown, PA: May 18, 2003.

TA-W-56,236; Potlatch Corporation, Administrative/Accounting Office, Cloquet, MN: December 3, 2003.

TA-W-56,430; QAP, Inc., West New York, NJ: January 27, 2004.

TA-W-56,300; OBY, Inc., including on-site leased workers of Brickforce, Newark, NJ: January 7, 2004.

TA-W-56,459; MMG Corporation, St. Louis, MO: February 1, 2004.

TA-W-56,504; England, Inc., Booneville, MS: January 31, 2004.

TA-W-56,433; Armstrong World Industries, Lancaster Floor Plant, Tile Div., Lancaster, PA: February 3, 2005.

TA-W-56,428 & A; Magneti Marelli Powertrain USA, LLC, Sanford, NC and Michigan Office, Farmington Hills, MI: January 3, 2004.

TA-W-56,409; Daikin Clutch Corporation, including on-site leased workers from Corporate Personnel Services, S & K Group, and Adecco Employment Services, Belleville, MI: January 24, 2004.

TA-W-56,258; Collins and Aikman Products Co., Division 016, Roxboro, NC: December 13, 2003.

TA-W-56,513; Cannon Equipment, Cannon Melrose Div., including leased workers of Joule Staffing Services, Tuttle Agency of New Jersey, and Brickforce Staffing, Passaic, NJ: February 7, 2004.

TA-W-56,559; Flexible Technologies, including leased workers of MGA Contracting, Honea Path, SC: February 8, 2004.

TA-W-56,534; Anchor Glass Container Co., Zanesville Mould Div., Zanesville, OH: February 7, 2004.

TA-W-56,509; Barrow Manufacturing Co., Inc., including leased workers of Skilstaf, Inc., Winder, GA: February 3, 2004.

TA-W-56.502; Gertrude Davenport, a div. of The Tog Shop, Inc., Americus, GA: February 4, 2004.

TA-W-56,421; Crane Pumps and Systems, Deming Div., Salem, OH: January 25, 2004.

TA-W-56,478; Peerless Premier Appliance Company, Belleville, IL: February 1, 2004.

TA-W-56,473; Glenoit LLC/Ex-Cell Home Fashions, Inc., Administrative Office, New York, NY: January 12, 2004.

TA-W-56,499; Wallace Packaging, Inc., Bay Shore, NY: February 4, 2004.

TA-W-56,613; Valtex, LLC, including Onsite Leased Workers of Skilstaf, Scottsboro, AL: February 18, 2004.

TA-W-56,572; Hickory Finishing, Inc., Hickory, NC: February 12, 2004.

TA-W-56,554; Boling Furniture Co., Mount Olive, NC: February 10, 2004.

TA-W-56,427; Ja-Mar Apparel Manufacturing Co., Inc., Irwindale, CA: January 21, 2004.

TA-W-56,425; Avalanche Industries, a subsidiary of Synergy Manufacturing, including leased workers of Staffing Solutions, Colorado Springs, CO: January 27, 2004.

TA-W-56,417; Pride Manufacturing Co. LLC, including leased workers of BDL/Allies, Guilford, ME: January 19, 2004.

TA-W-56,414; Ego Beltex, LLC, Belmont, NC: January 21, 2004.

TA-W-56,346; RPI, Inc., d/b/a Oxford, Automotive, Prudenville, MI: January 6, 2004.

TA-W-56,386; Eagle Family Foods, Inc., including on-site leased workers of Snelling, Wellsboro, PA: January 6, 2004.

TA-W-56,556; Pitt Service, Ltd, Working at Unifi-Kinston, LLC, Kinston, NC: February 8, 2004.

TA-W-56,548; Reed City Tool and Die, a div. of Martinrea Industries, Inc., Reed City, MI: February 9, 2004.

TA-W-56,533; Owens and Hurst Lumber Co., Inc., Eureka, MT: February 7, 2004.

TA-W-56,485; Anchor Hocking Co., a div. of Global Home Products, Monaca, PA: January 31, 2004.

TA-W-56,469; Blackstone Manufacturing, Blackstone, VA: February 1, 2004.

TA-W-56,450; Quality Apparel, Inc., Dillon, SC: May 9, 2004.

TA-W-56,377; Culp Weaving, a div. of Culp, Inc., Pageland Plant, Pageland, SC: January 18, 2004.

TA-W-56,575; Eljer Plumbingware, Inc., Verona, MS: February 4, 2004.

TA-W-55,522; Clayton Marcus Co., Inc., Plant #9, a subsidiary of L-Z-Boy, Hickory, NC: February 7, 2004.

The following certifications have been issued. The requirements of (a)(2)(B) (shift in production) of Section 222 have been met.

TA-W-56,399; Stillman Seals Corporation, Carlsbad, CA: January 7, 2004.

TA-W-56,309A; Kane Magnetics Acquisitions LLC, Galeton, PA: March 15, 2005.

TA-W-56,549; Finisar Corporation, Sunnyvale, CA: January 26, 2004.

TA-W-56,366; Singulus Technologies, Inc., Shell Manufacturing Plant, including on-site leased workers of Temploy, Irvine, CA: December 17, 2003.

TA-W-56,405; Nagel/US Hanger, Wire Drawing/Hanger Manufacturing Div., Caldwell, TX: January 13, 2004.

TA-W-56,404; Dunlop Slazenger Manufacturing LLC, a subsidiary of Dunlop Sports Group America, Inc. including leased workers of Ranstad, Westminster, SC: January 15, 2004.

TA-W-56,444; JDS Uniphase Corporation, Melbourne, FL: January 28, 2004.

TA-W-56,482; Gebo Corporation USA, Packaging Systems Div., a div. of Sidel, including on-site leased workers from Express Personnel Service and Accounting Principals, Bradenton, FL: February 1, 2004.

TA-W-56,528; Hussmann Corporation, Bridgeton, MO: February 7, 2004.

TA-W-56,467; Kimberly Clark Corporation, Feminine Care Division, Conway, AR: January 20, 2004.

TA-W-56,148; Ozark Electronics Cullman Alabama, Inc., a subsidiary of Ozark Electronics Repair, Inc., including on-site Temporary Workers of Cullman Employment Center, Cullman, AL: December 2, 2003.

TA-W-54,614A; Tim Englehart Corp., d/b/a Conduflor, Grand Haven, MI: March 27, 2003.

TA-W-56,651; Profile Metal Forming, Tullahoma Plant Div., including on-site leased workers of Randstad, Tullahoma, TN: February 24, 2004.

TA-W-56,640; ATS Precision Components Texas, Inc., a div. of Precision Components Group, McAllen, TX: February 23, 2004.

TA-W-56,494; Kimberly-Clark Corp., Ballard Medical Products Div., Draper, UT: February 3, 2004.

TA-W-56,476; Miss Elaine, Inc., Ste. Genevieve, MO: January 28, 2004.

TA-W-56,519; North Valley Operations, a div. of The Weyerhaeuser Co., Lebanon, OR: February 3, 2004.

TA-W-56,607; Superior Uniform Group, Inc., Mississippi Uniform Div., Lexington, MS: February 16, 2004.

TA-W-56,588; Guy Brown Products, Laser Cartridge Div., Chatsworth, CA: February 16, 2004.

TA-W-56,581; General Aluminum Manufacturing Co., including leased workers of Seek, Inc., Cedarburg, WI: February 15, 2004.

TA-W-56,577; Becton Dickinson and Company, BD Consumer Healthcare Div., including leased onsite workers of Kelly Services, Seneca, SC: February 15, 2004.

TA-W-56,573; Charleston Hosiery, Amherst Div., Biscoe, NC: February 12, 2004.

TA-W-56,468; Alexander Technologies USA, Inc., Mason City, IA: February 1, 2004.

TA-W-56,585; Latronics Corp., Latrobe, PA: February 10, 2004.

TA-W-56,629; Datex-Ohmeda, Inc., a subsidiary of GE Healthcare, including leased workers of Kelly Services, Louisville, CO: February 22, 2005.

TA-W-56,286; Duracell, a div. of The Gillette Co., Lexington, NC: Workers engaged in packaging zinc air hearing aid batteries who became totally or partially separated on employment on or after December 30, 2003.

TA-W-56,543; Evans Rule Co., Inc., a div. of L.S. Starrett Co., Inc., including leased workers of Hammes Staffing Services and Extra Help Personnel Services, Charleston, SC: December 10, 2004.

TA-W-56,390; Eimo Technologies, Fort Worth, TX: January 3, 2004.

TA-W-56,389 & A, B, C; Coats American, Inc., a div. of Coats North American, Sevier Plant, Marion, NC, El Paso Distribution Center & Customer Service Center, El Paso, TX, Sparks Distribution Center, Sparks, NV and Old Fort Transportation & Distribution Center, Old Fort, NC: January 21, 2004.

TA-W-56,609; Celanese Acetate LLC, including on-site leased workers of Venturi Staffing, Rock Hill, NC: February 18, 2004.

TA-W-56,564; Lab-Line Instruments, Inc., a div. of Barnstead International, including on-site leased workers of Aeroteck, Sterling Engineering and Manpower, Melrose Park, IL: February 3, 2004.

TA-W-56,553; SJP Corp., Also Known As Simmons Juvenile Products, Wooden Children's Furniture Div., New London, WI: September 6, 2004.

TA-W-56,532; Stant Manufacturing, Inc., Connersville, IN: February 1, 2004.

TA-W-56,507; Augusta Sportswear, Inc., Grovetown, GA: February 2, 2004.

TA-W-56,547; Seton Company, Saxton Leather Div., including leased workers of Spherion, Saxton, PA: August 14, 2004.

TA-W-56,530; United Engine and Machine Co., Inc., Carson City, NV: February 3, 2004.

TA-W-56,461; Teradyne, Inc., Teradyne Connection Systems (TCS), Connectors and Backplane Assemblies Facility, including leased workers of Microtech Staffing Group, TAC Worldwide and Technical Needs, Nashua, NH and Printed Circuit Board Facility, including leased workers of Microtech Staffing Group, TAC Worldwide and Technical Needs, Nashua, NH: January 31, 2004.

The following certifications have been issued. The requirement of upstream supplier to a trade certified primary firm has been met.

TA-W-56,028; Munters Corporation, including leased workers of Remedy Intelligent Staffing, Phoenix, AZ: November 12, 2003.

Negative Determinations for Alternative Trade Adjustment Assistance

In order for the Division of Trade Adjustment Assistance to issued a certification of eligibility to apply for Alternative Trade Adjustment Assistance (ATAA) for older workers, the group eligibility requirements of Section 246(a)(3)(A)(ii) of the Trade Act must be met.

In the following cases, it has been determined that the requirements of Section 246(a)3)ii) have not been met for the reasons specified.

The Department as determined that criterion (2) of Section 246 has not been met. Workers at the firm possess skills that are easily transferable.

TA-W-56,513; Cannon Equipment, Cannon Melrose Div., including leased workers of Joule Staffing Services, Tuttle Agency of New Jersey, and Brickforce Staffing, Passaic, NJ

TA-W-56,258; Collins and Aikman Products Co., Division 016, Roxboro, NC

TA-W-56,409; Daikin Clutch Corp., including on-site leased workers from Corporate Personnel Services, S & K Group, and Adecco Employment Services, Belleville, MI

TA-W-56,428 & A; Magneti Marelli Powertrain USA, LLC, Sanford, NC and Michigan Office, Farmington Hills, MI

TA-W-56,504; England, Inc., Booneville, MS

TA-W-56,459; MMG Corporation, St. Louis, MO

TA-W-56,467; Kimberly Clark Corp., Feminine Care Div., Conway, AR

TA-W-56,528; Hussmann Corp., Bridgeton, MO

TA-W-56,482; Gebo Corporation USA, Packaging Systems Div., a div. of Sidel, including on-site leased workers from Express Personnel Service and Accounting Principals, Bradenton, FL

TA-W-56,444; JDS Uniphase Corporation, Melbourne, FL

TA-W-52,441 & A; Conn-Selmer, Inc., Selmer Main Street Div., Elkhart, IN and Selmer Plant 2 Div., Elkhart, IN

The Department as determined that criterion (1) of Section 246 has not been met. Workers at the firm are 50 years of age or older.

TA-W-52,319; Akron Porcelain and Plastics Co., Inc., Akron, OH

TA-W-56,148; Ozark Electronics Cullman Alabama, Inc., a subsidiary of Ozark Electronics Repair, Inc., including on-site Temporary workers of Cullman Employment Center, Cullman, AL

TA-W-54,614A; Tim Englehart Corp., d/b/a Conduflor, Grand Haven, MI

TA-W-56,430; QAP, Inc., West New York, NJ

TA-W-56,300; OBY, Inc., including on-site leased workers of Brickforce, Newark, NJ

Since the workers are denied eligibility to apply for TAA, the workers cannot be certified eligible for ATAA.

TA-W-56,452; Sanmina—SCI Corporation, San Jose, CA

TA-W-56,487; Fraser Paper, Park Falls, WI

TA-W-56,368; Invista S.A.R.L., a div. of Koch Industries, Victoria, TX

TA-W-56,536 & A, B; Butler Manufacturing Co., subsidiary of Bluescope Steel, Ltd, Buildings Div., Wall and Roof Panels Production, Galesburg, IL, Trim and Components Production, Galesburg, IL and Secondaries Production, Galesburg, IL

TA-W-56,558; Ben Mar Hosiery, Ft. Payne, AL

TA-W-56,603; ATK—Ordnance Systems, a Unit of Alliant Techsystems, Janesville, WI

TA-W-56,574; Skillsoft, Nashua, NH

TA-W-56,457; Swenco, Inc., d/b/a Posi-Products, Poplar Bluff, MO

TA-W-56,160; Kennametal, Inc., MSSG Advertising, Latrobe, PA

TA-W-56,486; Lucent Technologies, Inc., Imerge Software Development and Testing Group, Phoenix, AZ

TA-W-56,454; G E Engine Services-Dallas LP, Dallas, TX

TA-W-56,463; Santa's Best, Lubbock Distribution Center, Lubbock, TX

TA-W-56,303; Alcatel USA Resources, VND Signaling Systems Products Div., Plano, TX

TA-W-56,353; Lear Corp., Marshall, MI

TA-W-56,400; Sprint Corp., United Telephone Company of North Carolina, Wake Forest Repair Service and Evaluation Center, Wake Forest, NC

TA-W-56,453; SBC Communications, formerly known as Southwestern Bell, Consumer Markets, Jonesboro, AR

TA-W-56,180; Bristol-Myers Squibb Co., Technical Operations, East Syracuse, NY

TA-W-56,412; Tiro Industries LLC, including leased workers from Excel Staffing, Fridley, MN

TA-W-56,451; Alloy Engineering and Casting Company, Counter Gravity Casting Division, Champaign, IL

TA-W-56,276; Trinity Marine Products, Inc., Marine Division, Burly, LA

TA-W-56,355 & A; Graham Steel Corp., Reinforcing Steel Div., Kirkland, WA and Structural Steel Div., Kirkland, WA

TA-W-56,477; Gardner Shoe Company, West Plains, MO

TA-W-56,484; Renee's Manufacturing, Inc., San Francisco, CA

TA-W-56,518; Standard Textile Thomaston, Inc., Thomaston, GA

TA-W-56,388; Westpoint Stevens, Inc., Daleville Div. Office, Daleville, IN

TA-W-56,448; LM Services LLC, Cumberland, MD

TA-W-56,357 & A; Westpoint Stevens, Inc., Middletown Plant, including on-site leased workers of Pro Resources, Middletown, IN and Anderson Warehouse, including on-site leased workers f PRO Resources, Anderson, IN

TA-W-56,374; Napso Window Systems, Sarver, PA

TA-W-56,383; CFM, Home Products Div., Joplin, MO

TA-W-56,541; Osram Sylvania, Inc., St. Marys, PA

TA-W-56,586; Lawson-Hemphill Sales, Inc., Spartanburg, SC

TA-W-56,531; Facility Management Engineering, Inc., St. George, UT

TA-W-56,426; General Chemical Industrial Products, Manistee, MI

TA-W-56,505; FB Johnston Graphics, Hillsborough, NC

TA-W-56,493; Keopplingers Bakery, Inc., Oak Park, MI

TA-W-56,439 & A, B; Dietrich Industries, Inc., Plant #14, Hammond, IN, Plant #18, Hammond, IN and Laporte, IN

TA-W-56,511; Quantegy, Inc., Opelika, AL

TA-W-56,354; Flambeau, Inc., Baraboo Blow Molding Div., Baraboo, WI

TA-W-56,432; Freescale Semiconductor, Inc., Motorola Business Group Services, formerly Motorola SPS, Inc., Tempe, AZ

TA-W-56,286; Duracell, a div. of The Gillette Co., Lexington, NC: “workers engaged in the production of high power lithium film camera batteries are denied eligibility to apply for alternative trade adjustment assistance under Section 246 of the Trade Act of 1974.”

TA-W-56,433A; Armstrong World Industries, Lancaster Floor Plant, Sheet Div., Lancaster, PA: “Workers of Armstrong World Industries, Lancaster Floor Plant, Sheet Division are denied eligibility to apply for alternative trade adjustment assistance under Section 246 of the Trade Act of 1974.”

Affirmative Determinations for Alternative Trade Ajdustment Assistance

In order for the Division of Trade Adjustment Assistance to issue a certification of eligibility to apply for Alternative Trade Adjustment Assistance (ATAA) for older workers, the group eligibility requirements of Section 246(a)(3)(A)(ii) of the Trade Act must be met.

The following certifications have been issued; the date following the company name and location of each determination references the impact date for all workers of such determinations.

In the following cases, it has been determined that the requirements of Section 246(a)(3)(ii) have been met.

I. Whether a significant number of workers in the workers' firm are 50 years of age or older.

II. Whether the workers in the workers' firm possess skills that are not easily transferable.

III. The competitive conditions within the workers' industry (i.e., conditions within the industry are adverse).

TA-W-56,499; Wallace Packaging, Inc., Bay Shore, NY: February 4, 2004.

TA-W-56,559; Flexible Technologies, including leased workers of MGA Contracting, Honea Path, SC: February 8, 2004.

TA-W-56,534; Anchor Glass Container Co., Zanesville Mould Div., Zanesville, OH: February 7, 2004.

TA-W-56,509; Barrow Manufacturing Co., Inc., including leased workers of Skilstaf, Inc., Winder, GA: February 3, 2004.

TA-W-56,502; Gertrude Davenport, a div. of The Tog Shop, Inc., Americus, GA: January 25, 2004.

TA-W-56,421; Crane Pumps and Systems, Deming Div., Salem, OH: January 25, 2004.

TA-W-56,478; Peerless Premier Appliance Co., Belleville, IL: February 1, 2004.

TA-W-56,473; Glenoit LLC/Ex-Cell Home Fashions, Inc., Administrative Office, New York, NY: January 12, 2004.

TA-W-56,613; Valtex, LLC, including onsite leased workers of Skilstaf, Scottsboro, AL: February 18, 2004.

TA-W-56,572; Hickory Finishing, Inc., Hickory, NC: February 12, 2004.

TA-W-56,554; Boling Furniture Co., Mount Olive, NC: February 10, 2004.

TA-W-56,414; Ego Beltex, LLC, Belmont, NC: January 21, 2004.

TA-W-56,427; Ja-Mar Apparel Manufacturing Co., Inc., Irwindale, CA: January 21, 2004.

TA-W-56,425; Avalanche Industries, a subsidiary of Synergy Manufacturing, including leased workers of Staffing Solutions, Colorado Springs, CO: January 27, 2004.

TA-W-56,417; Pride Manufacturing Co LLC, including leased workers of BDL/Allies, Guilford, ME: January 19, 2004.

TA-W-56,346; RPI, Inc., d/b/a Oxford Automotive, Prudenville, MI: January 6, 2004.

TA-W-56,386; Eagle Family Foods, Inc., including on-site leased workers of Snelling, Wellsboro, PA: January 6, 2004.

TA-W-56,556; Pitt Service, Ltd, working at Unifi-Kinston, LLC, Kinston, NC: February 8, 2004.

TA-W-56,548; Reed City Tool & Die, a div., of Martinrea Industries, Inc., Reed City, MI: February 9, 2004.

TA-W-56,533; Owens and Hurst Lumber Co., Inc., Eureka, MT: February 7, 2004.

TA-W-56,450; Quality Apparel, Inc., Dillon, SC: May 9, 2004.

TA-W-56,485; Anchor Hocking Co., a div. of Global Home Products, Monaca, PA: January 31, 2004.

TA-W-56,469; Blackstone Manufacturing, Blackstone, VA: February 1, 2004.

TA-W-56,377; Culp Weaving, a div. of Culp, Inc., Pageland Plant, Pageland, SC: January 18, 2004.

TA-W-56,575; Eljer Plumbingware, Inc., Verona, MS: February 4, 2004.

TA-W-56,522; Clayton Marcus Co., Inc., Plant #9, a subsidiary of L-Z-Boy, Hickory, NC: February 7, 2004.

TA-W-56,651; Profile Metal Forming, Tullahoma Plant Div., including on-site leased workers of Randstad, Tullahoma, TN: February 24, 2004.

TA-W-56,640; ATS Precision Components Texas, Inc., a div. of Precision Components Group, McAllen, TX: February 23, 2004.

TA-W-56,494; Kimberly-Clark Corp., Ballard Medical Products Div., Draper, UT: February 3, 2004.

TA-W-56,476; Miss Elaine, Inc., Ste. Genevieve, MO: January 28, 2004.

TA-W-56,519; North Valley Operations, a div. of The Weyerhaeuser Co., Lebanon, Or: February 3, 2004.

TA-W-56,585; Latronics Corp., Latrobe, PA: February 10, 2004.

TA-W-56,607; Superior Uniform Group, Inc., Mississippi Uniform Div., Lexington, MS: February 16, 2004.

TA-W-56,588; Guy Brown Products, Laser Cartridge Div., Chatsworth, CA: February 16, 2004.

TA-W-56,581; General Aluminum Manufacturing Co., including leased workers of Seek, Inc., Cedarburg, WI: February 15, 2004.

TA-W-56,577; Becton Dickinson and Co., BD Consumer Healthcare Div., including leased onsite workers of Kelly Services, Seneca, SC: February 15, 2004.

TA-W-56,573; Charleston Hosiery, Amherst Div., Biscoe, NC: February 12, 2004.

TA-W-56,468; Alexander Technologies USA, Inc., Mason City, IA: February 1, 2004.

TA-W-56,629; Datex-Ohmeda, Inc., a subsidiary of GE Healthcare, including leased workers of Kelly Services, Louisville, CO: February 22, 2005.

TA-W-56,543; Evans Rule Co., Inc., a div. of L.S. Starrett Co., Inc., including leased workers of Hammes Staffing Services and Extra Help Personnel Services, Charleston, SC: December 10, 2004.

TA-W-56,390; Eimo Technologies, including onsite leased workers of Pomerantz Staffing and Adecco Staffing, Fort Worth, TX: January 3, 2004.

TA-W-56,389 & A,B,C; Coats American, Inc., a div. of Coats North American, Sevier Plant, Marion, NC, El Paso Distribution Center & Customer Service Center, El Paso, TX, Sparks Distribution Center, Sparks, NV and Old Fort Transportation & Distribution Center, Old Fort, NC: January 21, 2004.

TA-W-56,609; Celanese Acetate LLC, including on-site leased workers of Venturi Staffing, Rock Hill, SC: February 18, 2004.

TA-W-56,564; Lab Line Instruments, Inc., a div. of Barnstead International, Melrose Park, IL: February 3, 2004.

TA-W-56,553; SJP Corp., Also Known As Simmons Juvenile Products, Wooden Children's Furniture Div., New London, WI: September 6, 2004

TA-W-56,532; Stant Manufacturing, Inc., Connersville, IN: February 1, 2004.

TA-W-56,507; Augusta Sportswear, Inc., Grovetown, GA: February 2, 2004.

TA-W-56,547; Seton Co., Saxton Leather Div., including leased workers of Spherion, Saxton, PA: August 14, 2004.

TA-W-56,530; United Engine and Machine Co., Inc., Carson City, NV: February 3, 2004.

TA-W-56,461 & A; Teradyne, Inc., Teradyne Connection Systems (TCS), Connectors and Backplane Assemblies Facility, including leased workers of Microtech Staffing Group, TAC Worldwide and Technical Needs, Nashua, NH and Printed Circuit Board Facility, including leased workers of Microtech Staffing Group, TAC Worldwide and Technical Needs, Nashua, NH: January 31, 2004.

TA-W-56,286; Duracell, a div. of The Gillette Co., Lexington, NC: Workers engaged in packaging zinc air hearing aid batteries who became totally or partially separated on employment on or after December 30, 2003.

TA-W-56,433; Armstrong World Industries, Lancaster Floor Plant, Tile Div., Lancaster, PA: February 3, 2005.

TA-W-52,136; Fairchild Semiconductor Corp., a subsidiary of Fairchild Semiconductor International, Inc., including Temporary Workers of Manpower, South Portland, ME: June 9, 2002 through August 6, 2005.

TA-W-52,274; Thomson, Inc., Circleville Glass Operations, Circleville, OH: June 27, 2002 through August 7, 2005.

TA-W-54,226; Plastic Research and Development, a subsidiary of EBSCO Industries, Inc., Mulberry, AR: February 4, 2003 through February 24, 2006.

TA-W-54,334; Simonds International Corp., File Div., Newcomerstown, OH: February 13, 2003 through March 30, 2006.

TA-W-53,353; LAPP Insulator Co. LLC, Sandersville Facility, Sandersville, GA: October 22, 2002 through November 21, 2005.

TA-W-53,166; Arvin Meritor, Inc., Chickasha, OK: October 1, 2002 through October 20, 2005.

TA-W-52,071; Colson Plastics, a div. of Colson Caster Corp., Monette, AR: June 16, 2002 through August 20, 2005.

TA-W-52,803 & A; Mastercraft Fabrics, LLC, Joan Fabrics Corp., Norwood Yarn Sales, Norwood, NC and Norwood Yarn Sales, Troy, NC: August 11, 2002 through October 20, 2005.

TA-W-51,720; Kidder, Inc., Agawam, MA: April 22, 2002 through September 11, 2005.

I hereby certify that the aforementioned determinations were issued during the month of March 2005. Copies of these determinations are available for inspection in Room C-5311, U.S. Department of Labor, 200 Constitution Avenue, NW., Washington, DC 20210 during normal business hours or will be mailed to persons who write to the above address.

Dated: March 23, 2005.
Timothy Sullivan,
Director, Division of Trade Adjustment Assistance.

[FR Doc. E5-1446 Filed 3-31-05; 8:45 am]

BILLING CODE 4510-30-P